DEPARTMENT OF STATE

[Public Notice: 8876]

Additional Designation of Jahan Tech Rooyan Pars, Mandegar Baspar Kimiya Company, Organization of Defensive Innovation and Research, and Nuclear Science and Technology Research Institute Pursuant to Executive Order 13382

AGENCY: Department of State.

ACTION: Designation of Four Iranian Entities Pursuant to Executive Order (E.O.) 13382.

SUMMARY: Pursuant to the authority in section 1(ii) of Executive Order 13382, “Blocking Property of Weapons of Mass Destruction Proliferators and Their Supporters”, the State Department, in consultation with the Secretary of the Treasury and the Attorney General, has determined that Jahan Tech Rooyan Pars, Mandegar Baspar Kimiya Company, Organization of Defensive Innovation and Research, and Nuclear Science and Technology Research Institute have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern.

DATES: The designation by the Under Secretary of State for Arms Control and International Security of the entity identified in this notice pursuant to Executive Order 13382 is effective on August 29, 2014.

FOR FURTHER INFORMATION CONTACT: Director, Office of Counterproliferation Initiatives, Bureau of International Security and Nonproliferation, Department of State, Washington, DC 20520, tel.: 202-647-5193.

Background

On June 28, 2005, the President, invoking the authority, inter alia, of the International Emergency Economic Powers Act (50 U.S.C. 1701-1706) (“IEEPA”), issued Executive Order 13382 (70 CFR 38567, July 1, 2005) (the “Order”), effective at 12:01 a.m. eastern daylight time on June 30, 2005. In the Order the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery, including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

Information on the additional designees is as follows:

Jahan Tech Rooyan Pars

AKA: Jahan Tech Rooyan Pars Company

AKA: Jahan Tech

Address: B18, Takhte-e-Jamshid Building, Science and Technology Park, Shiraz, Iran

Mandegar Baspar Kimiya Company

AKA: Mandegar Baspar Fajr Asia

AKA: Javid Bardiya Tejarat

Address: No. 510, 5th Floor, Saddi Trading Building, South SAA DI Street, Tehran, Iran

The Nuclear Science And Technology Research Institute

AKA: NSTRI

AKA: Research Institute of Nuclear Science and Technology

AKA: Nuclear Science and Technology Research Institute

AKA: Nuclear Science and Technology Research Center

Address: P.O. Box 11365-3486, Tehran, Iran

Address: P.O. Box 14399-51113, Tehran, Iran

Address: North Karegar Ave., P.O. Box 14399/51113, Tehran, Iran

Address: Moazzen Blvd. Rajaee Shahr, Karaj, Iran, P.O. Box 31485-498

Address: End of Karegare Shomali Street, P.O. Box 11365-3486, Tehran, Iran

The Organization of Defensive Innovation and Research

AKA: SPND

Address: Negarestan 3, off of Pasdaran Street, Tehran, Iran

Dated: August 28, 2014.
Rose Gottemoeller,
Under Secretary for Arms Control and International Security, Department of State.

[FR Doc. 2014-22620 Filed 9-22-14; 8:45 am]

BILLING CODE 4710-27-P